DEPARTMENT OF ENERGY

Federal Energy Regulatory Commission

[Docket No. ER02-2233-004, et al.]

Midwest Independent Transmission System Operator, Inc., et al.; Electric Rate and Corporate Filings

June 4, 2003.

The following filings have been made with the Commission. The filings are listed in ascending order within each docket classification.

1. Midwest Independent Transmission System, Operator, Inc., GridAmerica Participants

[Docket Nos. ER02-2233-004 and EC03-14-004]

Take notice that on May 30, 2003, the Midwest Independent Transmission System Operator, Inc. (Midwest ISO) and the GridAmerica Participants filed: (1) a Second Amended and Restated Appendix I ITC Agreement between GridAmerica LLC and the Midwest ISO; and (2) revised protocols describing the functions to be performed by GridAmerica, the Midwest ISO and the GridAmerica Companies pursuant to the May 15, 2003 Order of the Federal Energy Regulatory Commission, Midwest Independent Transmission System Operator Inc., 103 FERC • 61,178 (2003).

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter.

Comment Date: June 20, 2003.

2. Southern Company Services, Inc.

[Docket No. ER03-355-003]

Take notice that on May 30, 2003, Southern Company Services, Inc. (SCS), acting on behalf of Alabama Power Company, Georgia Power Company, Gulf Power Company, Mississippi Power Company, and Savannah Electric and Power Company (collectively Southern Companies), resubmitted one rollover transmission service agreement under the Open Access Transmission Tariff of Southern Companies (FERC Electric Tariff, Fourth Revised Volume No. 5). Southern Companies state that the agreement is for firm point-to-point rollover transmission service with Oglethorpe Power Corporation (OPC) (First Revised Service Agreement No. 431), and it is being refiled to comply with the Commission's Order in this proceeding dated May 2, 2003.

Comment Date: June 20, 2003.

3. Devon Power LLC

[Docket No. ER03-563-007]

Take notice that on May 30, 2003, ISO New England Inc., submitted a compliance filing in accordance with the Commission's April 25, 2003 Order in Docket No. ER03-563-000.

ISO New England Inc., stated that copies of said filing have been served upon all parties to this proceeding, and upon NEPOOL Participants, as well as upon the utility regulatory agencies of the six New England States.

Comment Date: June 20, 2003.

4. Midwest Independent Transmission System Operator, Inc., GridAmerica Companies

[Docket Nos. ER03-580-002 and EL03-119-002]

Take notice that on May 30, 2003, the GridAmerica Companies and the Midwest Independent Transmission System Operator, Inc. (Midwest ISO) tendered for filing with the Federal Energy Regulatory Commission (Commission) proposed revisions to the Midwest ISO Open Access Transmission Tariff (OATT), FERC Electric Tariff, Second Revised Volume No. 1, in compliance with the Commission's Order in Midwest Independent Transmission System Operator Inc., 103 FERC ¶ 61,090 (2003).

The Applicants have requested that the proposed revisions become effective upon the commencement of service over the GridAmerica transmission facilities under the Midwest ISO OATT.

The Applicants have also requested waiver of the service requirements set forth in 18 CFR 385.2010. The Applicants state that they have electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Applicants will provide hard copies to any interested parties upon request.

Comment Date: June 20, 2003.

5. FPL Energy New England Transmission, LLC

[Docket No. ER03-809-000]

Take notice that on May 30, 2003, FPL Energy New England Transmission, LLC submitted a Notice of Withdrawal of the proposed interconnection agreement filed on May 2, 2003.

Comment Date: June 20, 2003.

6. NJR Natural Energy Company

[Docket No. ER03-892-000]

Take notice that on May 27, 2003, NJR Natural Energy Company (NJRNE) tendered for filing a Notice of Cancellation of its FERC Electric Rate Schedule No. 1, which provides for the purchase and resale of electricity at market-based rates.

Comment Date: June 17, 2003.

7. Central Vermont Public Service Corporation

[Docket No. ER03-893-000]

Take notice that on May 30, 2003, Central Vermont Public Service Corporation (CVPS) tendered for filing the Actual 2002 Cost Report required under Paragraph Q-1 on Original Sheet No. 18 of the Rate Schedule FERC No. 135 (RS-2 Rate Schedule) under which Central Vermont Public Service Corporation sells electric power to Connecticut Valley Electric Company Inc. (Customer). The Actual 2002 Cost Report supports a refund to the Customer in the amount of $202,975.01, including interest, as provided by the RS-2 Rate Schedule. The Actual 2002 Cost Report reflects changes to the RS-2 Rate Schedule which were approved by the Commission's June 6, 1989 Order in Docket No. ER88-456-000.

CVPS states that copies of the filing were served upon the Customer, the New Hampshire Public Utilities Commission, and the Vermont Public Service Board.

Comment Date: June 20, 2003.

8. New England Power Pool

[Docket No. ER03-894-000]

Take notice that on May 29, 2003, the New England Power Pool (NEPOOL), jointly with ISO New England Inc. (the ISO) submitted for filing the Hydro-Quebec Interconnection Capability Credit (HQICC) values established by the Participants Committee pursuant to the Restated NEPOOL Agreement for the 2003/2004 NEOOL Power Year. This filing is made pursuant to section 205 of the Federal Power Act, 16 U.S.C. 824(d), in accordance with the Commission's direction in the April 30, 2003 order on rehearing in Docket Nos. EL03-25-001, -002, and -003, NSTAR Electric & Gas Corporation, et al. v. New England Power Pool, 103 FERC ¶ 61,093. A June 1, 2003 effective date is requested for implementation of these HQICC values. NEPOOL and the ISO have also requested expedited Commission action with respect to this filing.

NEPOOL states that copies of these materials were sent to the NEPOOL Participants, Non-Participant Transmission Customers and the New England state governors and regulatory commissions.

Comment Date: June 19, 2003.

9. White Pine Copper Refinery, Inc.

[Docket No. ER03-895-0000]

Take notice that on May 30, 2003, White Pine Copper Refinery, Inc. (White Pine) petitioned the Commission for acceptance, on a limited and temporary basis, of White Pine's Rate Schedule FERC No. 1; the granting of certain blanket approvals, including the authority to sell electricity at market-based rates; and the waiver of certain Commission regulations.

White Pine states that it intends to engage in wholesale electric power and energy purchases and sales as a marketer. White Pine also states that it is not in the business of generating or transmitting electric power.

Comment Date: June 13, 2003.

10. Southwest Power Pool, Inc.

[Docket No. ER03-896-000]

Take notice that on May 30, 2003, Southwest Power Pool, Inc. (SPP) submitted for filing an unexecuted service agreement for Firm Point-to-Point Transmission Service with Kansas Municipal Energy Agency (KMEA). SPP seeks an effective date of May 1, 2003 for the service agreement.

SPP states that KMEA was served with a copy of this filing.

Comment Date: June 20, 2003.

11. Southwest Power Pool, Inc.

[Docket No. ER03-897-000]

Take notice that on May 30, 2003, Southwest Power Pool, Inc. (SPP) submitted for filing an executed service agreement for Firm Point-to-Point Transmission Service with Western Resources d/b/a Westar Energy (Westar). SPP seeks an effective date of May 1, 2003 for the service agreement.

SPP states that Westar was served with a copy of this filing.

Comment Date: June 4, 2003.

12. Bangor-Hydro Electric Company

[Docket No. ER03-898-000]

Take notice that on May 30, 2003, Bangor-Hydro Electric Company (BHE) submitted for filing proposed revisions to its open access transmission tariff (OATT) that respond to the Maine Public Utilities Commission's (MPUC) request that BHE coordinate retail rate changes with BHE's annual distribution rate changes. The effect of the proposed revisions is to change the effective date for BHE's annual retail rate changes (calculated pursuant to the Rate Formula in BHE's OATT) from June 1 to July 1. BHE requests an effective date of June 1, 2003 for the proposed tariff revisions.

BHE states that copies of this filing were served on BHE's jurisdictional customers and affected state commissions, including the MPUC.

Comment Date: June 20, 2003.

13. New England Power Pool

[Docket No. ER03-899-000]

Take notice that on May 30, 2003, the New England Power Pool (NEPOOL) Participants Committee filed for acceptance materials to permit NEPOOL to expand its membership to include SESCO Enterprises, LLC (SESCO). The Participants Committee requests a June 1, 2003 effective date for commencement of participation in NEPOOL by SESCO.

NEPOOL Participants Committee states that copies of these materials were sent to the New England state governors and regulatory commissions and the Participants in NEPOOL.

Comment Date: June 20, 2003.

14. Duke Energy Corporation

[Docket No. ER03-900-000]

Take notice that on May 30, 2003, Duke Energy Corporation, on behalf of Duke Electric Transmission, (collectively, Duke) tendered for filing executed Service Agreements between Duke and Split Rock Energy LLC for Firm and Non-Firm Point-to-Point Transmission Service under Duke's Open Access Transmission Tariff. Duke seeks an effective date for the Service Agreements of May 12, 2003.

Comment Date: June 20, 2003.

15. Midwest Independent Transmission

[Docket No. ER03-901-000 System Operator, Inc.]

Take notice that on May 30, 2003, the Midwest Independent Transmission System Operator, Inc. (Midwest ISO) tendered for filing proposed amendments to transmission service agreements (Service Agreements) between: (1) Midwest ISO and the Michigan Public Power Agency (MPPA), for itself and as agent for Wolverine Power Supply Cooperative, Inc. (Wolverine), for Network Integration Transmission Service (NITS) for load located within the Michigan Electric Transmission Company, LLC (METC) pricing zone; (2) the Midwest ISO and MPPA for Non-Firm Point-to-Point Transmission Service; (3) the Midwest ISO and MPPA for Short-Term Firm Point-to-Point Transmission Service; (4) the Midwest ISO and MPPA for Long-Term Firm Point-to-Point Transmission Service; (5) the Midwest ISO and City of Holland (Holland) for Long-Term Firm Point-to-Point Transmission Service; (6) the Midwest ISO and Holland for Short-Term Firm Point-to-Point Transmission Service and (7) the Midwest ISO and Holland for Non-Firm Point-to-Point Transmission Service under the Midwest ISO open access transmission tariff (OATT or Tariff). Midwest ISO states that the Service Agreements amend the existing agreements between those parties, and will allow for the recovery of certain charges historically recovered from these customers that were omitted from the current versions of the Service Agreements currently on file with the Commission.

The Applicants have also requested waiver of the service requirements set forth in 18 CFR 385.2010. The Applicants states that they have electronically served a copy of this filing, with attachments, upon all Midwest ISO Members, Member representatives of Transmission Owners and Non-Transmission Owners, the Midwest ISO Advisory Committee participants, Policy Subcommittee participants, as well as all state commissions within the region. In addition, Midwest ISO indicates that the filing has been electronically posted on the Midwest ISO's Web site at http://www.midwestiso.org under the heading “Filings to FERC” for other interested parties in this matter. The Applicants states that they will provide hard copies to any interested parties upon request.

Comment Date: June 20, 2003.

16. Commonwealth Edison Company

[Docket No. ER03-902-000]

Take notice that on May 30, 2003, Commonwealth Edison Company (ComEd) tendered for filing with the Federal Energy Regulatory Commission (Commission) seven Service Agreements entered into between ComEd and Wisconsin Electric Power Marketing and associated Dynamic Scheduling Agreement entered into between ComEd and Wisconsin Electric Power Company under ComEd's Open Access Transmission Tariff.

ComEd requests effective dates of June 1, 2003, and June 1, 2004, and accordingly, requests waiver of the notice requirements.

ComEd states that copies of the filing were served upon Wisconsin Electric Power Marketing, Wisconsin Electric Power Company, the Wisconsin Public Service Commission and the Illinois Commerce Commission.

Comment Date: June 20, 2003.

17. Pacific Gas and Electric Company

[Docket No. ER03-903-000]

Take notice that on May 30, 2003, Pacific Gas and Electric Company (PG&E) tendered for filing the 2001 true-up to rates pursuant to Contract No. 14-06-200-2948A (Contract 2948A), PG&E First Revised Rate Schedule FERC No. 79, between PG&E and the Western Area Power Administration (Western).

PG& E states that copies of this filing have been served upon Western and the California Public Utilities Commission.

Comment Date: June 20, 2003.

18. Riverside Canal Power Company, Inc.

[Docket No. ER03-904-000]

Take notice that on May 30, 2003, Riverside Canal Power Company (Riverside) filed a Notice of Cancellation of its FERC Electric Tariff, First Revised Volume No. 1. Riverside indicates that it has been unmanned and the units have been offline since October 2000. Riverside requests that its Notice of Cancellation be effective as of May 29, 2003.

Riverside states that copies of the filing were served upon the parties of record in this docket.

Comment Date: June 20, 2003.

19. Xcel Energy Services, Inc.

[Docket No. ER03-905-000]

Take notice that on May 30, 2003, Xcel Energy Services, Inc. (XES), on behalf of Southwestern Public Service Company (SPS), submitted for filing an Exhibit A to the Wholesale Full Requirements Electric Power Service Agreement between SPS and Farmers' Electric Cooperative, Inc. of New Mexico (Farmers').

XES requests that this agreement become effective on May 30, 2003.

Comment Date: June 30, 2003.

20. Southwestern Electric Power Company

[Docket No. ER03-906-000.

Take notice that on May 30, 2003, Southwestern Electric Power Company (SWEPCO) submitted for filing actuarial reports in support of the amounts to be collected in SWEPCO's 2002 actual and 2003 projected formula rates for post-employment benefits other than pensions as directed by the Statement of Financial Accounting Standard No. 106 (SFAS 106), issued by the Financial Accounting Standards Board, and the collection in such formula rates of other post-employment benefits as directed by SFAS 112.

SWEPCO seeks an effective date of January 1, 2002 and, accordingly, requests waiver of the Commission's notice requirements. SWEPCO states it has served copies of the transmittal letter on all of its formula rate customers, the Arkansas Public Service Commission, the Louisiana Public Service Commission and the Public Utility Commission of Texas.

Comment Date: June 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14923 Filed 6-12ndash;03; 8:45 am]

BILLING CODE 6717-01-P